DEPARTMENT OF TRANSPORTATION

Federal Motor Carrier Safety Administration

Privacy Act of 1974: System of Records

AGENCY: Federal Motor Carrier Safety Administration, DOT.

ACTION: Notice to establish a system of records.

SUMMARY: DOT intends to establish a system of records under the Privacy Act of 1974.

EFFECTIVE DATE: January 12, 2007. If no comments are received, the proposal will become effective on the above date. If comments are received, the comments will be considered and, where adopted, the documents will be republished with changes.

FOR FURTHER INFORMATION CONTACT: Departmental Privacy Officer, Department of Transportation, Office of the Secretary, 400 7th Street, SW, Washington, DC 20590, (202) 366-1314 (telephone), (202) 366-7373 (fax), Steven.Lott@dot.gov (Internet address).

SUPPLEMENTARY INFORMATION: The Department of Transportation system of records notice subject to the Privacy Act of 1974 (5 U.S.C. 552a), as amended, has been published in the Federal Register and is available from the above mentioned address.

SYSTEM NUMBER: DOT/FMCSA 06

System name:

SAFETYNET.

Security classification:

Unclassified, sensitive.

System location:

Records are located at Federal Motor Carrier Safety Administration (FMCSA) field offices throughout the United States as well as the offices of State agencies responsible for the enforcement of interstate and intrastate motor carrier operations within their jurisdiction.

Categories of individuals covered by the system of records:

SAFETYNET covers companies and drivers of commercial motor vehicles (CMV) (i.e., trucks with a gross combination weight of 10,001 pounds or more, buses used to transport more than 9 passengers (including the driver), and vehicles transporting hazardous materials). It also includes information on shipping and freight-forwarding companies registered with FMCSA. SAFETYNET systems deployed and operated by State agencies may also contain information on motor carrier companies and operations residing in that State. Specific personal information related to individuals is maintained on:

1. Drivers associated with vehicle inspections and crashes related to the motor carrier companies in the system;

2. FMCSA and State officials with authorized access to SAFETYNET via personally assigned user accounts; and

3. Federal and State Safety Investigators (SI) performing motor carrier enforcement duties.

Categories of records in the system:

Records and reports in this system may include:

1. Registration Information: Includes the USDOT Number, carrier identification, types of vehicles, number of drivers, and commodities carried for motor carriers and hazardous material shippers registered with FMCSA and the State within which the SAFETYNET instance is deployed.

2. Review and Rating Information: The SAFETYNET system may contain compliance review records regarding companies' motor carrier operations, safety performance, and adherence to Federal and State regulations.

3. Inspection Information: Roadside inspection information about vehicles and drivers, including violations of safety regulations governing the driver, the vehicle, and those specifically related to hazardous materials.

4. Crash Information: Individual States collect and maintain information on recordable motor carrier crashes, which includes date, time and location of crash, investigating agency, weather and road surface conditions, motor carrier ID, driver name, driver license number, power unit identification, and crash outcome, including number of people injured and/or killed.

5. Complaint Information: Records of complaints received by Federal and State agencies from various sources against motor carrier companies, their drivers, and/or their operations.

6. Personal Identifier Information: Drivers and co-drivers are identified by name, date of birth, and driver license number.

Authority for maintenance of the system:

49 U.S.C. 31136(e), Motor Carrier Safety Act of 1984; 49 U.S.C. 31315, Transportation Efficiency Act for the 21st Century, TEA-21.

Purposes:

SAFETYNET is used to maintain records of the safety performance of interstate carriers and hazardous materials shippers that are subject to the Federal Motor Carrier Safety Regulations (FMCSR) or Hazardous Materials Regulations (HMR). SAFETYNET also contains information on intrastate carriers (carriers who collect, deliver, or transfer commodities within state boundaries only) that are registered with a State implementing the SAFETYNET system. A large subset of information, collected locally using the SAFETYNET systems, is uploaded to FMCSA centralized systems. Conversely, information collected by other States, and the centralized Federal systems, are distributed to the field-deployed SAFETYNET systems.

Routine uses of records maintained in the system, including categories of users and the purposes of such uses:

See Prefatory Notice of General Routine Uses.

Disclosure to consumer reporting agencies:

No.

Policies and practices for storing, retrieving, accessing, retaining, and disposing of records in the system:

Storage:

Records are stored electronically in databases on physical systems located at FMCSA field offices throughout the United States as well as the offices of State agencies responsible for the enforcement of interstate and intrastate motor carrier operations within their jurisdictions.

Retrievability:

Records are retrieved by the driver's name, date of birth, vehicle identifier, mailing address, and phone number.

Safeguards:

SAFETYNET information is accessible only to FMCSA and State enforcement personnel with specifically assigned user IDs and passwords. Some limited personnel under contract to FMCSA or State agencies responsible for carrying out enforcement activities or supporting the SAFETYNET system also have access via specifically assigned IDs and passwords. All SAFETYNET IDs and passwords are issued to users only after approval by local SAFETYNET System Managers, or their designees. All Federal and State enforcement related access to SAFETYNET is limited to FMCSA or State internal networks. The upload of data to centralized FMCSA systems is through the FMCSA internal network, specifically designated trusted source networks, or other approved encryption communication protocols. Physical security and access to the hosting facility is managed and maintained by the local SAFETYNET System Manager. FMCSA Division and Service Center offices keep their servers in a secure room. It is the responsibility of each participating state agency to properly secure the server within their facility.

Retention and Disposal:

SAFETYNET records are currently undergoing scheduling with the National Archives.

System Manager(s) and address:

Director, Office of Information Management, FMCSA, 400 7th Street, SW., Washington, DC 20590.

Notification procedure:

Individuals seeking to determine whether this system of records contains information pertaining to them should write to the Privacy Officer, Office of Management Information and Services, FMCSA, 400 7th Street, SW., Washington, DC 20590.

Record access procedures:

Same as “Notification procedure.”

Contesting record procedures:

Same as “Notification procedure.”

Record source categories:

In addition to individual user input through the client/server interface, SAFETYNET collects information from other enforcement systems such as ASPEN, which is roadside CMV inspection software, for vehicle and driver inspections. The SAFETYNET software may be configured at the State level to interface with and receive data from State inspection, crash, or carrier registration information systems.

Exemptions claimed for the system:

None.

OMB Control Number:

None.

Dated: November 21, 2006.
Steven Lott,
Departmental Privacy Officer.

[FR Doc. E6-20115 Filed 11-27-06; 8:45 am]

BILLING CODE 4910-62-P